DEPARTMENT OF AGRICULTURE

Agricultural Marketing Service

7 CFR Part 1216

[Docket No. FV-00-1216PR]

Peanut Promotion, Research, and Information Order; Reopening of Comment Period on Amendment No. 1 to Add a Public Member to the National Peanut Board

AGENCY: Agricultural Marketing Service, USDA.

ACTION: Reopening of comment period.

SUMMARY: Notice is hereby given that the comment period on the proposed rule to amend the Peanut Promotion, Research, and Information Order is reopened until September 20, 2000. The proposed rule would add a public member and alternate to the National Peanut Board (Board), add authority for producers in minor peanut-producing states to conduct nominations for Board members by mail ballot, make changes related to the addition of the public member, and eliminate obsolete language. The comment period is being reopened at the request of several peanut industry groups and representatives.

DATES: Comments must be received by September 20, 2000.

ADDRESSES: Interested persons are invited to submit written comments, in triplicate, concerning the proposed rule to: Docket Clerk, Research and Promotion Branch, Fruit and Vegetable Programs (FV), Agricultural Marketing Service (AMS), USDA, Stop 0244, Washington, Room 2535-S, 1400 Independence Avenue, SW., Washington, DC 20250-0244; via facsimile to (202) 205-2800; or via e-mail to malinda.farmer@usda.gov. All comments should reference the docket number and the date and page number of this issue of the Federal Register. All comments will be made available for public inspection at the above address during regular business hours or on the Internet at www.ams.usda.gov/fv/rpb.html. A copy of the proposed rule may be found at www.ams.usda.gov/fv/rpdocketlist.htm.

Pursuant to the Paperwork Reduction Act of 1995 (PRA), you may also send comments regarding the accuracy of the burden estimate in the proposed rule, ways to minimize the burden, including through the use of automated collection techniques or other forms of information technology, or any other aspect of the collection of information in the proposed rule, to the above address. Comments concerning the information collection under the PRA should also be sent to the Desk Officer for Agriculture, Office of Information and Regulatory Affairs, Office of Management and Budget, Washington, DC 20503.

FOR FURTHER INFORMATION CONTACT: Daniel R. Williams II, Research and Promotion Branch, FV, AMS, USDA, Room 2535-S, Stop 0244, Washington, DC 20250-0244; telephone (888) 720-9917 (toll free); or facsimile (202) 205-2800.

SUPPLEMENTARY INFORMATION: A proposed rule was issued on May 26, 2000, and published in the Federal Register [65 FR 35298, June 2, 2000]. The proposed rule invited comments on adding a public member to the National Peanut Board (Board), allowing producers in minor peanut-producing states to conduct nominations by mail ballot, making changes related to the addition of the public member, and eliminating obsolete language. The Board is currently composed of 10 peanut producers and their alternates as required by the Peanut Promotion, Research, and Information (Order). The proposed rule specified that comments must be received by August 1, 2000.

The U.S. Department of Agriculture (USDA) received requests from seven peanut producer organizations, and five Members of Congress to extend the comment period for 60 days. The organizations stated that the peanut industry is in the middle of the growing season and needs time to organize grower meetings in order to give their members the opportunity to discuss the positives and negatives of adding a public member to the Board. The congressional comments supported the organizations' request for an additional 60 days to submit comments. In addition, the Board submitted a comment on the proposed rule.

USDA also is concerned about the peanut industry and other interested persons having adequate time to review the proposed rule. Taking into account the requests received for additional time to comment, it is USDA's view that reopening the comment period for 30 days will allow peanut producers, producer organizations, and other interested persons adequate time to develop comments on the proposed rule and submit them. Further, the original comment period was for 60 days. The additional 30 days provides the industry a total of 90 days to comment on the proposal.

Accordingly, the period in which to file written comments is reopened until September 20, 2000.

Authority: 7 U.S.C. 7401-7425.

Dated: August 15, 2000.
Robert C. Keeney,
Deputy Administrator, Fruit and Vegetable Programs.

[FR Doc. 00-21217 Filed 8-18-00; 8:45 am]

BILLING CODE 3410-02-P